DEPARTMENT OF ENERGY

Federal Energy Regulatory Commission

[Project No. 15378-000]

Kram Hydro 6, LLC; Notice of Preliminary Permit Application Accepted for Filing and Soliciting Comments, Motions To Intervene, and Competing Applications

On October 21, 2024, Kram Hydro 6, LLC, filed an application for a preliminary permit, pursuant to section 4(f) of the Federal Power Act (FPA), proposing to study the feasibility of a hydropower project that would be located at the U.S. Army Corps of Engineers' (Corps) Dewey Lake Dam on John's Creek, near the City of Paintsville, in Floyd County, Kentucky. The sole purpose of a preliminary permit, if issued, is to grant the permit holder priority to file a license application during the permit term. A preliminary permit does not authorize the permit holder to perform any land-disturbing activities or otherwise enter upon lands or waters owned by others without the owners' express permission.

The proposed Dewey Lake Dam Hydroelectric Project would consist of the following: (1) a 40-foot-wide, 85-foot-long armored intake channel; (2) a 20-foot-diameter, 1,400-foot-long penstock; (3) a 70-foot-long, 120-foot-wide concrete powerhouse located downstream of the dam on the west bank, containing two Kaplan turbine-generator units, with a combined capacity of 5.5 megawatts; (4) a 30-foot-long, 50-foot-wide unlined tailrace; (5) a substation, adjacent to the powerhouse; and (6) a 150-foot-long, 69 kilovolt transmission line that would interconnect with an existing distribution line. The proposed project would have an estimated annual generation of 24 gigawatt-hours.

Applicant Contact: Kristen Fan, Kram Hydro 6, 3120 Southwest Fwy., Suite 101, PMB 50808, Houston, TX 77098; phone: (772) 418-2705.

FERC Contact: Prabharanjani Madduri; phone: (202) 502-8017, or by email at prabharanjani.madduri@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15378-000.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

More information about this project, including a copy of the application, can be viewed, or printed on the “eLibrary” link of the Commission's website at https://elibrary.ferc.gov/eLibrary/search. Enter the docket number (P-15378) in the docket number field to access the document. For assistance, contact FERC Online Support.

Dated: December 12, 2024.
Debbie-Anne A. Reese,
Secretary.

[FR Doc. 2024-30064 Filed 12-18-24; 8:45 am]

BILLING CODE 6717-01-P